SOCIAL SECURITY ADMINISTRATION

[Docket No. SSA 2007-3400]

Privacy Act of 1974 as Amended; Computer Matching Program (SSA/States, SVES Files)—Match 6005, 6006, 6007, and 6008

AGENCY: Social Security Administration (SSA) .

ACTION: Notice of a renewal of an existing computer matching program which is scheduled to expire on June 30, 2007.

SUMMARY: In accordance with the provisions of the Privacy Act, as amended, this notice announces a renewal of an existing computer matching program that SSA is currently conducting with the States.

DATES: SSA will file a report of the subject matching program with the Committee on Homeland Security and Governmental Affairs of the Senate, the Committee on Oversight and Government Reform of the House of Representatives, and the Office of Information and Regulatory Affairs, Office of Management and Budget (OMB). The matching program will be effective as indicated below.

ADDRESSES: Interested parties may comment on this notice by either telefax to (410) 965-8582 or writing to the Associate Commissioner, Office of Income Security Programs, 252 Altmeyer Building, 6401 Security Boulevard, Baltimore, MD 21235-6401. All comments received will be available for public inspection at this address.

FOR FURTHER INFORMATION CONTACT: The Associate Commissioner for Income Security Programs as shown above.

SUPPLEMENTARY INFORMATION:

A. General

The Computer Matching and Privacy Protection Act of 1988 (Public Law (Pub. L.) 100-503), amended the Privacy Act (5 U.S.C. 552a) by describing the manner in which computer matching involving Federal agencies could be performed and adding certain protections for individuals applying for, and receiving, Federal benefits. Section 7201 of the Omnibus Budget Reconciliation Act of 1990 (Pub. L. 101-508) further amended the Privacy Act regarding protections for such individuals.

The Privacy Act, as amended, regulates the use of computer matching by Federal agencies when records in a system of records are matched with other Federal, State, or local government records. It requires Federal agencies involved in computer matching programs to:

(1) Negotiate written agreements with the other agency or agencies participating in the matching programs;

(2) Obtain the Data Integrity Boards' approval of the match agreements;

(3) Publish notice of the computer matching program in the Federal Register;

(4) Furnish detailed reports about matching programs to Congress and OMB;

(5) Notify applicants and beneficiaries that their records are subject to matching; and

(6) Verify match findings before reducing, suspending, terminating, or denying an individual's benefits or payments.

B. SSA Computer Matches Subject to the Privacy Act

We have taken action to ensure that all of SSA's computer matching programs comply with the requirements of the Privacy Act, as amended.

Dated: May 8, 2007.
Manuel J. Vaz,
Acting Deputy Commissioner for Disability and Income Security Programs.

Notice of Computer Matching Program, Social Security Administration (SSA) With the States

A. Participating Agencies

SSA and the States

B. Purpose of the Matching Program

The purpose of this matching program is to establish the conditions, safeguards, and procedures under which the States may obtain SSN verification and certain SSA information relating to the eligibility for, and payment of, Social Security, Supplemental Security Income, and Special Veterans Benefits, quarters of coverage, prisoner, and death information. This information is available from various SSA systems of records.

Individual agreements with the States will describe the information to be disclosed and the conditions under which SSA agrees to disclose such information.

C. Authority for Conducting the Matching Program

This matching program is carried out under the authority of the Privacy Act of 1974, as amended; sections 202(x)(3)(B)(iv), 205(r)(3), and 1106 of the Social Security Act; sections 402, 412, 421 and 435 of Public Law 104-193; Public Law 108-458; section 6301(l)(7) of Title 26 of the Internal Revenue Code and SSA's Privacy Act Regulations (20 CFR 401.150) and by the routine use exception to the Privacy Act (5 U.S.C. 552a(b)(3)).

D. Categories of Records and Individuals Covered by the Matching Program

States will provide SSA with names and other identifying information of appropriate benefit applicants or recipients. Specific information from participating States will be matched, as provided in the agreement for the specific programs, with the following systems of records maintained by SSA.

1. SVES—SSR/SVB, SSA/ODSSIS (60-0103); MBR, SSA/ORSIS (60-0090); and the Master Files of SSN Holders and SSN Applications, SSA/OEEAS (60-0058);

2. Quarters of Coverage Query—the Earnings Recording and Self-Employment Income System, SSA/OEEAS (60-0059) and the Master Files of SSN Holders and SSN Applications, SSA/OEEAS (60-0058);

3. Prisoner Query—PUPS, SSA/OEEAS (60-0269).

E. Inclusive Dates of the Matching Program

The matching program will become effective no sooner than 40 days after notice of the matching program is sent to Congress and OMB, or 30 days after publication of this notice in the Federal Register, whichever date is later. The matching program will continue for 18 months from the effective date and may be extended for an additional 12 months thereafter, if certain conditions are met.

Individual State matching agreements under the matching program will become effective upon the effective date of this matching program or the signing of the agreements by the parties to the individual agreements, whichever is later. The duration of individual State matching agreements will be subject to the timeframes and limitations contained in this matching program.

[FR Doc. E7-9443 Filed 5-16-07; 8:45 am]

BILLING CODE 4191-02-P